ENVIRONMENTAL PROTECTION AGENCY

40 CFR Part 52

[EPA-R09-OAR-2020-0122; FRL-10011-39-Region 9]

Air Plan Approval; California; Butte County; El Dorado County; Mojave Desert Air Quality Management District; San Diego County; Ventura County

AGENCY: Environmental Protection Agency (EPA).

ACTION: Proposed rule.

SUMMARY: The Environmental Protection Agency (EPA) is proposing to approve revisions to the Butte County Air Quality Management District (BCAQMD), El Dorado County Air Quality Management District (EDCAQMD), Mojave Desert Air Quality Management District (MDAQMD), San Diego County Air Pollution Control District (SDCAPCD) and Ventura County Air Pollution Control District (VCAPCD) portions of the California State Implementation Plan (SIP). These revisions concern rules that include definitions for certain terms that are necessary for the implementation of local rules that regulate sources of air pollution. We are proposing to approve the definitions rules under the Clean Air Act (CAA or the Act). We are taking comments on this proposal and plan to follow with a final action.

DATES: Comments must be received on or before August 5, 2020.

ADDRESSES: Submit your comments, identified by Docket ID No. EPA-R09-OAR-2020-0122 at https://www.regulations.gov. For comments submitted at Regulations.gov, follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact the person identified in the FOR FURTHER INFORMATION CONTACT section. For the full EPA public comment policy, information about CBI or multimedia submissions, and general guidance on making effective comments, please visit https://www.epa.gov/dockets/commenting-epa-dockets.

FOR FURTHER INFORMATION CONTACT: Arnold Lazarus, EPA Region IX, 75 Hawthorne St., San Francisco, CA 94105. By phone: (415) 972-2304 or by email at Lazarus.Arnold@epa.gov.

SUPPLEMENTARY INFORMATION: Throughout this document, “we,” “us” and “our” refer to the EPA.

¹ CARB submitted the amendment to BCAQMD Rule 101 electronically on May 23, 2018. CARB's submittal letter is dated May 18, 2018.

² The BCAQMD amended Rule 101 on this date but took no action on Rule 102. The date is from Enclosure A to CARB Executive Order S-18-004, May 18, 2018, which is included in CARB's May 23, 2018 SIP submittal.

³ CARB submitted the rescission of BCAQMD Rule 102 electronically on May 23, 2018. CARB's submittal letter is dated May 18, 2018.

⁴ CARB submitted the amendment to MDAQMD Rule 102 electronically on August 19, 2019. CARB's submittal letter is dated August 16, 2019.

⁵ CARB submitted the amendment to VCAPCD Rule 2 electronically on August 19, 2019. CARB's submittal letter is dated August 16, 2019.

Table of Contents

I. The State's Submittal

A. What rules did the State submit?

B. Are there other versions of these rules?

C. What is the purpose of the submitted rule revisions?

II. The EPA's Evaluation and Action

A. How is the EPA evaluating the rules?

B. Do the rules meet the evaluation criteria?

C. The EPA's Recommendations to Further Improve the Rules

D. Public Comment and Proposed Action

III. Incorporation by Reference

IV. Statutory and Executive Order Reviews

I. The State's Submittal

A. What rules did the State submit?

Table 1 lists the rules addressed by this proposal with the dates that they were adopted by the local air agencies and submitted by the California Air Resources Board (CARB) to the EPA.

Table 1—SUBMITTED RULES
Local agency | Rule # | Rule title | Rescinded | Amended /revised | Submitted
BCAQMD | 101 | Definitions |  | 12/14/2017 | ¹ 5/23/2018
BCAQMD | 102 | Definitions | ² 12/14/17 |  | ³ 5/23/2018
EDCAQMD | 101 | General Provisions and Definitions |  | 6/20/2017 | 8/9/2017
MDAQMD | 102 | Definition of Terms |  | 1/28/2019 | ⁴ 8/19/2019
SDCAPCD | 2 | Definitions |  | 7/11/2017 | 11/13/2017
VCAPCD | 2 | Definitions |  | 4/9/2019 | ⁵ 8/19/2019

Under CAA section 110(k)(1), the EPA must determine whether a SIP submittal meets the minimum completeness criteria established in 40 CFR part 51, appendix V for an official SIP submittal on which the EPA is obligated to take action. If the EPA does not make an affirmative determination of completeness or incompleteness within six months of receipt of a SIP submittal, the submittal is deemed to be complete by operation of law. The submitted rules listed in Table 1 were deemed complete by operation of law on the following dates: February 9, 2018 (EDCAQMD Rule 101), May 13, 2018 (SDCAPCD Rule 2), November 23, 2018 (BCAQMD Rule 101 and rescission of BCAQMD Rule 102), and February 19, 2020 (MDAQMD Rule 102 and VCAPCD Rule 2).

B. Are there other versions of these rules?

We approved an earlier version of BCAQMD Rule 101 into the SIP on June 11, 2015 (80 FR 33195).⁶ The BCAQMD adopted revisions to the SIP-approved version on December 14, 2017, and CARB submitted them to us on May 23, 2018. We approved BCAQMD Rule 102 into the SIP on February 3, 1987 (52 FR 3226). Most of the definitions in BCAQMD Rule 102 have been superseded by approval of the definitions in BCAQMD Rule 101 and Rule 300 (“Open Burning Requirements, Prohibitions, and Exemptions”).⁷ The only remaining defined terms in BCAQMD Rule 102 are “submerged fill pipe” and “vapor recovery system.”

⁶ See also 80 FR 59610 (October 2, 2015) (correcting amendment for June 11, 2015 final rule).

⁷ We approved BCAQMD Rule 300 at 80 FR 38966 (July 8, 2015).

We approved an earlier version of EDCAQMD Rule 101 into the SIP on October 10, 2001 (66 FR 51578). The EDCAQMD adopted revisions to the SIP-approved version on June 20, 2017, and CARB submitted them to us on August 9, 2017.

We approved an earlier version of MDAQMD Rule 102 into the SIP on July 2, 2019 (84 FR 31682). The MDAQMD adopted revisions to the SIP-approved version on January 28, 2019, and CARB submitted them to us on August 19, 2019.

We approved an earlier version of SDCAPCD Rule 2 into the SIP on June 21, 2017 (82 FR 28240). The SDCAPCD adopted revisions to the SIP-approved version on July 11, 2017, and CARB submitted them to us on November 13, 2017.

We approved an earlier version of VCAPCD Rule 2 into the SIP on December 7, 2012 (77 FR 72968). The VCAPCD adopted revisions to the SIP-approved version on April 9, 2019, and CARB submitted them to us on August 19, 2019.

C. What is the purpose of the submitted rule revisions?

The purpose of these submitted rule revisions is to clarify and update definitions in the districts' rules. Revisions include the following, but a more complete list and discussion can be found in the technical support documents (TSDs) and submitted district staff reports and rules for this rulemaking:

• BCAQMD Rule 101 revisions include removal of Global Warming Potentials table, updating the Exempt Compounds table to be consistent with the definition of “volatile organic compounds” (VOC) in 40 CFR 51.100(s), removing greenhouse gases (GHG) and carbon dioxide equivalent emissions from the major source definition and adding definitions for “Submerged Fill Pipe” and “Vapor Recovery System.” In its submittal letter to CARB, BCAQMD also requests that BCAQMD Rule 102 be rescinded from the SIP,⁸ and CARB included the BCAQMD's rescission request in its May 23, 2018 SIP submittal to the EPA.

⁸ See letter from Jason Mandly, Associate Air Quality Planner, BCAQMD, to Carol Sutkus, CARB, dated January 9, 2018.

• EDCAQMD Rule 101 revisions include updating the district's title (previously known as El Dorado Air Pollution Control District), updating the exempt compounds list and adding or revising definitions for “Global Warming Potential,” Greenhouse Gases”, “Owner or Operator,” “PM2.5,” “Responsbile Official,” and “Short Lived Climate Pollutants,” and “Volatile Organic Compounds.”

• MDAQMD Rule 102 revisions include the addition of definitions that had been included in other MDAQMD rules, the renumbering of the definitions, and the addition of certain definitions associated with CARB's Airborne Toxic Control Measure to reduce emissions of hexavalent chromium and nickel from thermal spraying. Definitions added include “Agricultural Facility”, “Confined Animal Facility”, “Detonation Gun Spraying”, “Flame Spraying”, “High-Velocity Oxy-Fuel Spraying”, “Plasma Spraying”, “Thermal Spraying Operation”, “Twin-Wire Electric Arc Spraying”, and “Volatile Organic Compound”. In its submittal letter to CARB, MDAQMD also requests that CARB submit amended Rule 102 to replace the SIP versions of the rule that are in effect in the San Bernardino County and the Blythe/Palo Verde Valley portions of the District.⁹ We have already responded to this request through final action on an earlier version of MDAQMD Rule 102.¹⁰

⁹ See letter from Alan J. De Salvio, Deputy Director, Mojave Desert Operations, MDAQMD, to Carol Sutkus, CARB, dated April 11, 2019.

¹⁰ 84 FR 31682 (July 2, 2019).

• SDCAPCD Rule 2 revisions include adding the Chemical Abstract Service (CAS) Registry Number to each of the compounds in the table of “exempt compounds” at the end of Rule 2. “Exempt compounds” are excluded from the definition of “volatile organic compounds.”

• VCAPCD Rule 2 revisions include the addition of nine compounds to the list of “exempt organic compounds,” as defined in Rule 2. The revisions also include the addition of CAS Registry Numbers to various compounds included in the list of “exempt organic compounds,” and the removal of the Global Warming Potential Table at the end of Rule.

II. The EPA's Evaluation and Action

A. How is the EPA evaluating the rules?

Rules in the SIP must be enforceable (see CAA section 110(a)(2)), must not interfere with applicable requirements concerning attainment and reasonable further progress or other CAA requirements (see CAA section 110(l)), and must not modify certain SIP control requirements in nonattainment areas without ensuring equivalent or greater emissions reductions (see CAA section 193).

Guidance and policy documents that we used to evaluate enforceability, revision/relaxation and rule stringency requirements for the applicable criteria pollutants include the following:

1. “State Implementation Plans; General Preamble for the Implementation of Title I of the Clean Air Act Amendments of 1990,” 57 FR 13498 (April 16, 1992); 57 FR 18070 (April 28, 1992).

2 “Issues Relating to VOC Regulation Cutpoints, Deficiencies, and Deviations,” EPA, May 25, 1988 (the Bluebook, revised January 11, 1990).

3. “Guidance Document for Correcting Common VOC & Other Rule Deficiencies,” EPA Region 9, August 21, 2001 (the Little Bluebook).

B. Do the rules meet the EPA's evaluation criteria?

These rules are consistent with CAA requirements and relevant guidance regarding enforceability. More specifically, the revisions to the definitions rules with respect to the list of “exempt compounds” that are exluded from the districts' definitions of “volatile organic compounds” are consistent with the definition of “volatile organic compounds” in 40 CFR 51.100(s). The deletions of certain GHG-related provisions from certain definitions rules are acceptable in light of recent court decisions involving GHG permitting. With respect to the rescission request for BCAQMD Rule 102, we find that the May 23, 2018 SIP submittal does not include sufficient public process documentation to approve the request; however, approval of amended BCAQMD Rule 101, which we propose herein, will have the effect of superseding BCAQMD Rule 102 in the applicable SIP because the two remaining definitions from Rule 102 will be incorporated into Rule 101 if we finalize the action as proposed. The TSDs have more information on our evaluation.

C. The EPA Recommendations to Further Improve the Rules

The TSDs include recommendations for the next time the local agencies modify their rules.

D. Public Comment and Proposed Action

Pursuant to section 110(k)(3) of the Act, the EPA proposes to fully approve the submitted rules because they fulfill all relevant requirements. We will accept comments from the public on this proposal until August 5, 2020. If we take final action to approve the submitted rules, our final action will incorporate these rules into the federally enforceable SIP.

III. Incorporation by Reference

In this rule, the EPA is proposing to include in a final EPA rule regulatory text that includes incorporation by reference. In accordance with requirements of 1 CFR 51.5, the EPA is proposing to incorporate by reference the BCAQMD's, the EDAQMD's, the MDAQMD's, the SDCAPCD's and the VCAPCD's rules described in Table 1 of this preamble. The EPA has made, and will continue to make, these materials available through https://www.regulations.gov and at the EPA Region IX Office (please contact the person identified in the FOR FURTHER INFORMATION CONTACT section of this preamble for more information).

IV. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the Clean Air Act. Accordingly, this proposed action merely proposes to approve state law as meeting federal requirements and does not impose additional requirements beyond those imposed by state law. For that reason, this proposed action:

• Is not a “significant regulatory action” subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide the EPA with the discretionary authority to address disproportionate human health or environmental effects with practical, appropriate, and legally permissible methods under Executive Order 12898 (59 FR 7629, February 16, 1994).

In addition, the SIP is not approved to apply on any Indian reservation land or in any other area where the EPA or an Indian tribe has demonstrated that a tribe has jurisdiction. In those areas of Indian country, the proposed rule does not have tribal implications and will not impose substantial direct costs on tribal governments or preempt tribal law as specified by Executive Order 13175 (65 FR 67249, November 9, 2000).

List of Subjects in 40 CFR Part 52

Environmental protection, Air pollution control, Incorporation by reference, Intergovernmental relations, Nitrogen dioxide, Ozone, Particulate matter, Reporting and recordkeeping requirements, Volatile organic compounds.

Authority: 42 U.S.C. 7401 et seq.

Dated: June 23, 2020.
John Busterud,
Regional Administrator, Region IX.

[FR Doc. 2020-13998 Filed 7-2-20; 8:45 am]

BILLING CODE 6560-50-P